DEPARTMENT OF DEFENSE

Department of the Army, Corps of Engineers

Intent To Prepare a Draft Supplemental Environmental Impact Statement (SEIS) in Conjunction With Proposed Flood Control Measures (Levee 37) on the Upper Des Plaines River at Mount Prospect in Cook County, IL

AGENCY: U.S. Army Corps of Engineers, DoD.

ACTION: Notice of intent.

SUMMARY: The project involves proposed construction of flood control measures along the Upper Des Plaines River at Prospect Heights and Mount Prospect in Cook County, Illinois. Alternatives under consideration include earthen levees, concrete floodwalls, and temporary road closures.

FOR FURTHER INFORMATION CONTACT: Mr. Keith Ryder, 312/353-6400 ext. 2020; U.S. Army Corps of Engineers, Suite 600, 111 North Canal Street; Chicago, Illinois 60606-7206.

SUPPLEMENTARY INFORMATION: The Supplemental Environmental Impact Statement will document changes to the recommended plan (pertinent to the levee 37 project area) originally proposed in the 1999 environmental impact statement.

Mark A. Roncoli,
Colonel, U.S. Army District Engineer.

[FR Doc. 00-21142 Filed 8-18-00; 8:45 am]

BILLING CODE 3210-HN-M